DEPARTMENT OF HEALTH AND HUMAN SERVICES

Food and Drug Administration

[Docket No. FDA-2017-N-5715]

Watson Laboratories, Inc., and Barr Laboratories, Inc., Subsidiaries of Teva Pharmaceuticals USA, Inc.; Withdrawal of Approval of 54 Abbreviated New Drug Applications

AGENCY: Food and Drug Administration, HHS.

ACTION: Notice.

SUMMARY: The Food and Drug Administration (FDA) is withdrawing approval of 54 abbreviated new drug applications (ANDAs) from two applicants. The holders of the applications notified the Agency in writing that the drug products were no longer marketed and requested that the approval of the applications be withdrawn.

DATES: Approval is withdrawn as of November 24, 2017.

FOR FURTHER INFORMATION CONTACT: Trang Tran, Center for Drug Evaluation and Research, Food and Drug Administration, 10903 New Hampshire Ave., Bldg. 75, Rm. 1671, Silver Spring, MD 20993-0002, 240-402-7945.

SUPPLEMENTARY INFORMATION: The holders of the applications listed in table 1 have informed FDA that these drug products are no longer marketed and have requested that FDA withdraw approval of the applications under the process in § 314.150(c) (21 CFR 314.150(c)). The applicants have also, by their requests, waived their opportunity for a hearing. Withdrawal of approval of an abbreviated application under § 314.150(c) is without prejudice to refiling.

Table 1
Application No. | Drug | Applicant
ANDA 061717 | Doxycycline Hyclate Capsules USP, Equivalent to (EQ) 50 milligrams (mg) base and EQ 100 mg base | Watson Laboratories, Inc., Subsidiary of Teva Pharmaceuticals USA, Inc., 425 Privet Rd., Horsham, PA 19044.
ANDA 062087 | Erythromycin Estolate Capsules USP, EQ 250 mg base | Do.
ANDA 062318 | Gentamicin Injection USP, EQ 10 mg base/milliliter (mL) and EQ 40 mg base/mL | Do.
ANDA 062816 | Ampicillin for Injection USP, EQ 125 mg base/vial, EQ 250 mg base/vial, EQ 500 mg base/vial, EQ 1 gram (g) base/vial, and EQ 2 g base/vial | Do.
ANDA 062994 | Ampicillin for Injection USP, EQ 10 g base/vial | Do.
ANDA 062999 | Erythromycin Delayed-Release Tablets USP, 500 mg | Barr Laboratories, Inc., Subsidiary of Teva Pharmaceuticals USA, Inc., 425 Privet Rd., Horsham, PA 19044.
ANDA 064036 | Cefuroxime for Injection USP, EQ 7.5 g base/vial | Watson Laboratories, Inc., Subsidiary of Teva Pharmaceuticals USA, Inc.
ANDA 070296 | Diazepam Injection USP, 5 mg/mL | Do.
ANDA 070412 | Furosemide Tablets USP, 20 mg | Do.
ANDA 070435 | Ibuprofen Tablets USP, 200 mg | Do.
ANDA 070436 | Ibuprofen Tablets USP, 400 mg | Do.
ANDA 070437 | Ibuprofen Tablets USP, 600 mg | Do.
ANDA 070449 | Furosemide Tablets USP, 20 mg | Do.
ANDA 070450 | Furosemide Tablets USP, 40 mg | Do.
ANDA 070515 | Tolazamide Tablets USP, 500 mg | Do.
ANDA 070528 | Furosemide Tablets USP, 80 mg | Do.
ANDA 071238 | Doxepin Hydrochloride (HCl) Capsules USP, EQ 50 mg base | Do.
ANDA 071547 | Ibuprofen Tablets USP, 800 mg | Do.
ANDA 072397 | Diazepam Injection USP, 5 mg/mL | Do.
ANDA 072407 | Fenoprofen Calcium Tablets USP, EQ 600 mg base | Do.
ANDA 072602 | Fenoprofen Calcium Tablets USP, EQ 600 mg base | Do.
ANDA 072630 | Albuterol Tablets USP, EQ 4 mg base | Do.
ANDA 072825 | Baclofen Tablets USP, 20 mg | Do.
ANDA 073013 | Metaproterenol Sulfate Tablets USP, 10 mg | Do.
ANDA 073445 | Meperidine HCl Injection USP, 100 mg/mL | Do.
ANDA 074025 | Guanabenz Acetate Tablets USP, EQ 4 mg base and EQ 8 mg base | Do.
ANDA 074114 | Dobutamine Injection USP, EQ 12.5 mg base/mL | Do.
ANDA 074163 | Naproxen Tablets USP, 250 mg, 375 mg, and 500 mg | Do.
ANDA 074287 | Piroxicam Capsules USP, 10 mg and 20 mg | Do.
ANDA 074303 | Pentamidine Isethionate for Injection, 300 mg/vial | Do.
ANDA 074437 | Pindolol Tablets USP, 5 mg and 10 mg | Do.
ANDA 074456 | Alprazolam Tablets USP, 0.25 mg, 0.5 mg, and 1 mg | Do.
ANDA 077643 | Topiramate Tablets USP, 25 mg, 50 mg, 100 mg, and 200 mg | Do.
ANDA 080728 | Diphenhydramine HCl Capsules USP, 25 mg | Do.
ANDA 080968 | Dexamethasone Tablets USP, 0.75 mg | Do.
ANDA 081040 | Chlorzoxazone Tablets USP, 500 mg | Do.
ANDA 081149 | Hydroxyzine HCl Tablets USP, 10 mg | Do.
ANDA 081189 | Hydrochlorothiazide Tablets USP, 25 mg | Do.
ANDA 081216 | Estropipate Tablets USP, 6 mg | Do.
ANDA 083232 | Hydrochlorothiazide Tablets USP, 50 mg | Do.
ANDA 085720 | Meprobamate Tablets USP, 200 mg | Do.
ANDA 085721 | Meprobamate Tablets USP, 400 mg | Do.
ANDA 085778 | Hydroxyzine HCl Injection USP, 25 mg/mL | Do.
ANDA 086096 | Chlorpheniramine Maleate Injection USP, 10 mg/mL | Do.
ANDA 086189 | Ergoloid Mesylates Sublingual Tablets USP, 0.5 mg | Do.
ANDA 086598 | Nandrolone Decanoate Injection USP, 100 mg/mL | Do.
ANDA 086795 | Chlorothiazide Tablets USP, 250 mg | Do.
ANDA 087183 | Ergoloid Mesylates Sublingual Tablets USP, 1 mg | Do.
ANDA 087296 | Chlorthalidone Tablets USP, 25 mg | Do.
ANDA 087521 | Chlorthalidone Tablets USP, 50 mg | Do.
ANDA 087772 | Prednisone Tablets USP, 50 mg | Do.
ANDA 087979 | Chloroquine Phosphate Tablets USP, EQ 150 mg base | Do.
ANDA 088030 | Chloroquine Phosphate Tablets USP, EQ 300 mg base | Do.
ANDA 089042 | Procainamide HCl Extended-Release Tablets USP, 750 mg | Do.

Therefore, approval of the applications listed in table 1, and all amendments and supplements thereto, is hereby withdrawn as of November 24, 2017. Introduction or delivery for introduction into interstate commerce of products without approved new drug applications violates section 301(a) and (d) of the Federal Food, Drug, and Cosmetic Act (21 U.S.C. 331(a) and (d)). Drug products that are listed in table 1 that are in inventory on the date that this notice becomes effective (see the DATES section) may continue to be dispensed until the inventories have been depleted or the drug products have reached their expiration dates or otherwise become violative, whichever occurs first.

Dated: October 18, 2017.
Leslie Kux,
Associate Commissioner for Policy.

[FR Doc. 2017-23046 Filed 10-23-17; 8:45 am]

BILLING CODE 4164-01-P